DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of September 24, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Jefferson County, Alabama and Incorporated Areas
Docket No.: FEMA-B-1860
City of Argo | Argo City Hall, 100 Blackjack Road, Trussville, AL 35173.
City of Bessemer | City Hall, 1700 3rd Avenue North, Bessemer, AL 35020.
City of Birmingham | Department of Planning, Engineering, and Permits, 710 20th Street North, Room 210, Birmingham, AL 35203.
City of Clay | Clay City Hall, 2441 Old Springville Road, Birmingham, AL 35215.
City of Helena | Municipal Building, 816 Highway 52 East, Helena, AL 35080.
City of Homewood | City Hall, 2850 19th Street South, Homewood, AL 35209.
City of Hoover | City Hall, 100 Municipal Lane, Hoover, AL 35216.
City of Irondale | City Hall, 101 20th Street South, Irondale, AL 35210.
City of Leeds | Development Services, 1404 9th Street, Leeds, AL 35094.
City of Mountain Brook | City Hall, 56 Church Street, Mountain Brook, AL 35213.
City of Trussville | City Hall, 131 Main Street, Trussville, AL 35173.
City of Vestavia Hills | City Hall, 1032 Montgomery Highway, Vestavia Hills, AL 35216.
Unincorporated Areas of Jefferson County | Jefferson County Department of Development Services, 716 Richard Arrington Jr. Boulevard North, Suite B200, Birmingham, AL 35203.
Shelby County, Alabama and Incorporated Areas
Docket Nos.: FEMA-B-1860 and B-2027
City of Birmingham | Department of Planning, Engineering, and Permits, 710 North 20th Street, Room 210, Birmingham, AL 35203.
City of Helena | Municipal Building, 816 Highway 52 East, Helena, AL 35080.
City of Hoover | City Hall, 100 Municipal Lane, Hoover, AL 35216.
City of Vestavia Hills | City Hall, 1032, Montgomery Highway, Vestavia Hills, AL 35216.
Unincorporated Areas of Shelby County | Shelby County Engineer's Office, 506 Highway 70, Columbiana, AL 35051.
St. Clair County, Alabama and Incorporated Areas
Docket No.: FEMA-B-1860
City of Leeds | Development Services, 1404 9th Street, Leeds, AL 35094.
City of Moody | City Hall, 670 Park Avenue, Moody, AL 35004.
City of Trussville | City Hall, 131 Main Street, Trussville, AL 35173.
Unincorporated Areas of St. Clair County | St. Clair County Road Department, 31588 U.S. Highway 231, Ashville, AL 35953.
Alachua County, Florida and Incorporated Areas
Docket No.: FEMA-B-1823
City of Gainesville | Public Works Department, 405 North West 39th Avenue, Gainesville, FL 32609.
Unincorporated Areas of Alachua County | Alachua County Public Works Department, 5620 North West 120th Lane, Gainesville, FL 32653.
Orange County, Florida and Incorporated Areas
Docket No.: FEMA-B-1966
City of Apopka | City Engineer's Office, 120 East Main Street, Apopka, FL 32703.
City of Ocoee | Building and Zoning Department, 150 North Lakeshore Drive, Ocoee, FL 34761.
City of Winter Garden | Engineering Division, 300 West Plant Street, Winter Garden, FL 34787.
Town of Oakland | Town Hall, 220 North Tubb Street, Oakland, FL 34760.
Unincorporated Areas of Orange County | Orange County Stormwater Management Division, 4200 South John Young Parkway, Orlando, FL 32839.
Nicholas County, West Virginia and Incorporated Areas
Docket No.: FEMA-B-2032
City of Richwood | J.H. Meadows Municipal Complex, 6 White Avenue, Richwood, WV 26261.
Unincorporated Areas of Nicholas County | Nicholas County Division of Homeland Security and Emergency Management, 511 Church Street, LO2, Summersville, WV 26651.

[FR Doc. 2021-13866 Filed 6-28-21; 8:45 am]

BILLING CODE 9110-12-P